DEPARTMENT OF COMMERCE

International Trade Administration

Notice of Amendment for US-UK FIP Trade Mission to the United Kingdom

AGENCY: International Trade Administration, Department of Commerce.

ACTION: Notice.

SUMMARY: The International Trade Administration, United States Department of Commerce, is announcing amended dates and deadline for submitting applications for the US-UK Financial Innovation Partnership Trade Mission to the United Kingdom previously announced and published in the Federal Register.

DATES: The mission, originally scheduled for June 21-24, 2021, is postponed to June 20-23, 2022.

SUPPLEMENTARY INFORMATION: Amendment to Revise Trade Mission Dates, and Deadline for Submitting Applications.

Background

The United States Department of Commerce, International Trade Administration, is amending the Notice published at 85 FR 56578 (September 14, 2020), regarding the dates of ITA's planned U.S.-UK Financial Innovation Partnership Trade Mission to the United Kingdom, which have been modified from June 21-24, 2021 to June 20-23, 2022. The Department has been closely monitoring COVID-19 developments and believes postponing the mission is the best decision for the health, safety, and welfare of the participants. The new deadline for applications has been extended to Friday, December 17, 2021. Applications may be accepted after that date if space remains and scheduling constraints permit. Interested U.S. companies and trade associations/organizations that have not already submitted an application are encouraged to do so. The schedule is updated as follows:

Proposed Timetable

* Note: The final schedule and potential site visits will depend on the availability of host government and business officials, specific goals of mission participants, and ground transportation.

Monday, June 20, 2022 | • Trade Mission Participants Arrive.
| • No Host Dinner/Delegation Meet Up/Evening Activity (i.e., London Eye).
Tuesday, June 21, 2022 | • Opening Breakfast at Winfield House (Regents Park).
| • FCA Sandbox Discussion (Stratford).
| • Level 39 Accelerator Show Round and Visit with Key Tenants (Canary Wharf).
| • Evening Reception—TBC Bank/Venue in Canary Wharf.
Wednesday, June 22, 2022 | • 7:30 a.m. Opening of London Stock Exchange Networking, Ceremony, and Information on Listing on the Exchange (St Paul's).
| • Bank of England Show Round and Discussion (Bank).
| • Delegation: Lunch on Own (Bank/Various); DAS: Programming with DIT Counterparts (Whitehall).
| • FIP Roundtable Discussion with HMG, FinTech Alliance at U.S. Embassy (Vauxhall).
| • Evening Reception (Sponsored/Venue TBC).
Thursday, June 23, 2022 | • Pitch Fest Half Day Forum at U.S. Embassy (Vauxhall).
| • Official Trade Mission Program Concludes.

The U.S. Department of Commerce will review applications and make selection decisions on a comparative basis in accordance with the Notice published at 85 FR 56578 (September 14, 2020), The applicants selected will be notified as soon as possible.

Contacts

Vincent Tran, International Trade Specialist, Office of Finance and Insurance Industries, Washington, DC, (202) 482-2967, Vincent.Tran@trade.gov

Gemal Brangman, Senior Advisor, Trade Missions, Trade Events Management Task Force, Washington, DC, (202) 482-3773, Gemal.Brangman@trade.gov

Chrystal Denys, Commercial Specialist, U.S. Commercial Service London, +44 (0) 207 891 3419, Chrystal.Denys@trade.gov

Peter Sexton, Director, Global Financial Services Team, U.S. Commercial Service New York City, (212) 809-2647, PeterSexton@trade.gov

Eli Corso-Phinney, International Trade Specialist, Office of Western and Northern Europe, Washington, DC, (202) 482-7941, Eli.Corso-Phinney@trade.gov

Brian Beams, Deputy Team Leader Financial Services, U.S. Commercial Service Northern New Jersey, (862) 235-5267, Brian.Beams@trade.gov

Gemal Brangman,
Senior Advisor, Trade Missions, ITA Events Management Task Force.

[FR Doc. 2021-04807 Filed 3-8-21; 8:45 am]

BILLING CODE 3510-DR-P